INTERNATIONAL TRADE COMMISSION

[USITC SE-19-033]

Sunshine Act Meetings

Agency Holding the Meeting: United States International Trade Commission.

TIME AND DATE: September 10, 2019 at 9:30 a.m.

PLACE: Room 101, 500 E Street SW, Washington, DC 20436, Telephone: (202) 205-2000.

STATUS: Open to the public.

MATTERS TO BE CONSIDERED:

1. Agendas for future meetings: None.

2. Minutes.

3. Ratification List.

4. Vote on Inv. Nos. 731-TA-1455-1457 (Preliminary) (Polyethylene Terephthalate (“PET”) Sheet from Korea, Mexico, and Oman). The Commission is currently scheduled to complete and file its determinations on September 13, 2019; views of the Commission are currently scheduled to be completed and filed on September 20, 2019.

5. Vote on Inv. No. 731-TA-1206 (Review) (Diffusion-Annealed, Nickel-Plated Flat-Rolled Steel Products from Japan). The Commission is currently scheduled to complete and file its determination and views of the Commission by September 24, 2019.

6. Outstanding action jackets: None.

The Commission is holding the meeting under the Government in the Sunshine Act, 5 U.S.C. 552(b). In accordance with Commission policy, subject matter listed above, not disposed of at the scheduled meeting, may be carried over to the agenda of the following meeting.

By order of the Commission.
Issued: August 29, 2019.
William Bishop,
Supervisory Hearings and Information Officer.

[FR Doc. 2019-19235 Filed 9-3-19; 11:15 am]

BILLING CODE 7020-02-P